DEPARTMENT OF HEALTH AND HUMAN SERVICES

President's Advisory Council for Faith-Based and Neighborhood Partnerships

In accordance with section 10(a)(2) of the Federal Advisory Committee Act (Pub. L. 92-463), the President's Advisory Council for Faith-based and Neighborhood Partnerships announces the following meeting:

Name: President's Advisory Council for Faith-based and Neighborhood Partnerships Council Meeting.

Times and Dates: Tuesday, February 2nd from 4-6 p.m. EST and Thursday, February 4th from 4-6 p.m. EST.

Place: Meetings will be held via conference call. Please contact Mara Vanderslice for call-in information and further details at mvanderslice@who.eop.gov.

Status: Open to the public, limited only by the space available. Conference call line will be available.

Purpose: The Council brings together leaders and experts in fields related to the work of faith-based and neighborhood organizations in order to: Identify best practices and successful modes of delivering social services; evaluate the need for improvements in the implementation and coordination of public policies relating to faith- based and other neighborhood organizations; and make recommendations for changes in policies, programs, and practices.

Contact Person for Additional Information: Mara Vanderslice at mvanderslice@who.eop.gov.

SUPPLEMENTARY INFORMATION: Please contact Mara Vanderslice for more information about how to join the conference call.

Agenda: Topics to be discussed include final deliberations on draft Taskforce recommendations for Council report.

Dated: January 15, 2010.
Jamison Citron,
Special Assistant.

[FR Doc. 2010-1592 Filed 1-28-10; 8:45 am]

BILLING CODE 4154-07-P